ENVIRONMENTAL PROTECTION AGENCY

[FRL-6565-2]

Gulf of Mexico Program Citizens Advisory Committee Meeting

AGENCY: Environmental Protection Agency (USEPA).

ACTION: Notice of meeting.

SUMMARY: Under the Federal Advisory Act, P.L. 92463, EPA gives notice of a meeting of the Gulf of Mexico Program (GMP) Citizens Advisory Committee (CAC) in conjunction with the Gulf of Mexico Symposium.

DATES: The CAC meeting will be held on Monday, April 10, 2000 from 12:00 p.m. to 1:00 p.m. and on Tuesday, April 11, 2000 from 8:00 a.m. to11:00 a.m. and 1:30 p.m. to 4:30 p.m. and on Wednesday, April 12, 2000 from 1:00 p.m. to 3:00 p.m.

ADDRESSES: The meeting will be held at the Mobile Convention Center, 1 South Water Street, Mobile, AL, (334) 415-2100.

FOR FURTHER INFORMATION CONTACT: Gloria D. Car, Designated Federal Officer, Gulf of Mexico Program Office, Building 1103, Room 202, Stennis Space Center, MS 39529-6000 at (228) 688-2421.

SUPPLEMENTARY INFORMATION: Proposed agenda items will include: Coordination of Gulf of Mexico Symposium activities, Participation in Gulf of Mexico Symposium community action sessions, Progress of place-based work within Gulf States' watersheds, status of CAC membership appointments, review and update on Measures of Success and CAC activities, and Symposium reports.

The meeting is open to the public.

Dated: March 20, 2000.
James D. Giattina,
Director, Gulf of Mexico Program Office.

[FR Doc. 00-7452 Filed 3-24-00; 8:45 am]

BILLING CODE 6560-50-P